GENERAL SERVICES ADMINISTRATION

[OMB Control No. 3030-0112]

Submission for OMB Review; Comment Request Entitled State Agency Monthly Donation Report of Surplus Property

Correction

In notice document 02-7136 beginning on page 13633, in the issue of Monday, March 25, 2002, make the following corrections:

1. On page 13633, in the third column, under the SUMMARY: heading, in the last line, “Personnel” should read “Personal”.

2. On page 13634, in the first column, the text under the DATES: heading should read “Submit comments on or before: April 24, 2002.”.

[FR Doc. C2-7136 Filed 4-5-02; 8:45 am]

BILLING CODE 1505-01-D

GENERAL SERVICES ADMINISTRATION

[OMB Control No. 3090-0023]

Submission for OMB Review; Comment Request Entitled Surplus Property Mailing List Application

Correction

In notice document 02-7137, appearing on page 13634, in the issue of Monday, March 25, 2002, make the following correction:

On page 13634, in the second column, the text under the DATES: heading should read “Comments may be submitted on or before: April 24, 2002.”.

[FR Doc. C2-7137 Filed 4-5-02; 8:45 am]

BILLING CODE 1505-01-D

GENERAL SERVICES ADMINISTRATION

[OMB Control No. 3090-0006]

Submission for OMB Review: Comment Request Entitled GSAR Clause, 552.237-71, Qualifications of Employees

Correction

In notice document 02-7138 beginning on page 13634 in the issue of Monday, March 25, 2002, make the following correction:

On page 13635, in the first column, the text under the heading DATES: should read “Comments may be submitted on or before: April 24, 2002.”

[FR Doc. C2-7138 Filed 4-5-02; 8:45 am]

BILLING CODE 1505-01-D

GENERAL SERVICES ADMINISTRATION

[OMB Control No. 3090-0250]

Proposed Collection for Public Comments; Comment Request Entitled Zero Burden Information Collection Reports

Correction

In notice document 02-7139 appearing on page 13633 in the issue of Monday, March 25, 2002, make the following corrections:

1. On page 13633, in the second column, the text under the DATES: heading should read “Comment due date: May 24, 2002.”.

2. On page 13633, in the second column, under the FOR FURTHER INFORMATION CONTACT: heading, in the second line, “GAS” should read “GSA”.

[FR Doc. C2-7139 Filed 4-5-02; 8:45 am]

BILLING CODE 1505-01-D